FEDERAL COMMUNICATIONS COMMISSION

47 CFR Part 73

[DA 04-1617; MB Docket No. 04-219; RM-10986]

Radio Broadcasting Services; Evergreen, AL, and Shalimar, FL

AGENCY: Federal Communications Commission.

ACTION: Proposed rule.

SUMMARY: This document requests comments on a petition for rule making filed by Gulf Coast Broadcasting Company, Inc., licensee of Station WPGG(FM) (“WPGG”), Channel 227C1, Evergreen, Alabama. The petition proposes to downgrade Channel 227C1 to Channel 227C2 and reallot Channel 227C2, from Evergreen to Shalimar, Florida, thus providing Shalimar with its first local aural transmission service. The coordinates for requested Channel 227C2 at Shalimar are 30-23-36 NL and 86-29-45 WL, with a site restriction of 9.9 kilometers (6.1 miles) southeast of Shalimar.

Petitioner's reallotment proposal complies with the provisions of Section 1.420(i) of the Commission's Rules, and therefore, the Commission will not accept competing expressions of interest in the use of Channel 227C2 at Shalimar, Florida, or require Petitioner to demonstrate the availability of an additional equivalent class channel.

DATES: Comments must be filed on or before August 2, 2004, and reply comments on or before August 17, 2004.

ADDRESSES: Secretary, Federal Communications Commission, 445 12th Street, SW., Room TW-A325, Washington, DC 20554. In addition to filing comments with the FCC, interested parties should serve Petitioner's counsel, as follows: Lauren A. Colby, Esq.; 10 E. Fourth Street; PO Box 113; Frederick, Maryland 21705-0113.

FOR FURTHER INFORMATION CONTACT: R. Barthen Gorman, Media Bureau, (202) 418-2180.

SUPPLEMENTARY INFORMATION: This is a synopsis of the Commission's Notice of Proposed Rule Making, MB Docket No. 04-219, adopted June 8, 2004, and released June 10, 2004. The full text of this Commission decision is available for inspection and copying during regular business hours in the FCC's Reference Information Center at Portals II, 445 12th Street, SW, CY7-A257, Washington, DC, 20554. This document may also be purchased from the Commission's duplicating contractors, Best Copy and Printing, Inc., Portals II, 445 12th Street, SW., Room CY-B402, Washington, DC, 20554, telephone 202-863-2893, facsimile 202-863-2898.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Alabama, is amended by removing Evergreen, Channel 227C1.

3. Section 73.202(b), the Table of FM Allotments under Florida, is amended by adding Shalimar, Channel 227C2.

Federal Communications Commission.
John A. Karousos,
Assistant Chief, Audio Division, Media Bureau.

[FR Doc. 04-14485 Filed 6-24-04; 8:45 am]

BILLING CODE 6712-01-P